DEPARTMENT OF HEALTH AND HUMAN SERVICES

Administration for Children and Families

Proposed Information Collection Activity; Comment Request

Proposed Project

Title: Building Strong Families (BSF) Demonstration and Evaluation—Impact Study Second Follow-up.

OMB No.: 0970-0304.

Description: The Administration for Children and Families (ACF), U.S. Department of Health and Human Services (HHS), anticipates continuing data collection for the 15-month follow-up surveys of the Building Strong Families (BSF) Demonstration and Evaluation. Data collection will continue for an additional 6 months beyond the current date of expiration (July 31, 2009).

This data collection is a part of the BSF evaluation, which is an important opportunity to learn if well-designed interventions can help low-income couples develop the knowledge and relationship skills that research has shown are associated with healthy marriages. The BSF evaluation uses an experimental design that randomly assigns couples who volunteer to participate in BSF programs to a program or control group.

Materials for the original 15-month data collection effort, previously submitted to OMB, covered impact and implementation data collections. Data collection for the impact study is complete. ACF anticipates collecting data for an additional 6 months in order to complete data collection for the entire sample of participants.

Respondents: Couples enrolled in the BSF evaluation, including program and control groups.

Annual Burden Estimates
Instrument | Annual number of respondents | Number of responses per respondent | Average burden hours per response | Estimated annual burden hours
15-month telephone survey (female partner) | 1,434 | 1 | .91 | 1,305
15-month telephone survey (male partner) | 1,434 | 1 | .83 | 1,190
Total Burden Hours |  |  |  | 2,495

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acfjov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 28, 2008.
Steven M. Hanmer,
OPRE Reports Clearance Officer.

[FR Doc. E8-28656 Filed 12-3-08; 8:45 am]

BILLING CODE 4184-01-M